DEPARTMENT OF HOMELAND SECURITY

Coast Guard

33 CFR Part 165

[Docket No. USCG-2023-0180]

Safety Zone; Fireworks Display; Chesapeake Bay, Norfolk, VA

AGENCY: Coast Guard, Department of Homeland Security (DHS).

ACTION: Notification of enforcement of regulation.

SUMMARY: The Coast Guard will enforce a safety zone for the Shore Thing Independence Day Celebration on June 30, 2023, in Virginia Beach, VA, to protect against hazards associated with a fireworks display and provide for the safety of life on navigable waterways during this event. Our regulation for marine events within the Fifth Coast Guard District identifies the regulated area for this event in Norfolk, VA. During the enforcement period, entry of vessels or persons into this zone is prohibited unless specifically authorized by the Captain of the Port Virginia.

DATES: The regulations in 33 CFR 165.506 will be enforced for the location identified as Item 3 in table 3 to paragraph (h)(3) from 9:30 p.m. until 9:45 p.m. on June 30, 2023.

FOR FURTHER INFORMATION CONTACT: If you have questions about this notification of enforcement, call or email LCDR Ashley Holm, Chief, Waterways Management Division, Sector Virginia, U.S. Coast Guard; telephone 757-668-5580 email Ashley.E.Holm@uscg.mil.

SUPPLEMENTARY INFORMATION: The Coast Guard will enforce the safety zone in 33 CFR 165.506 for Shore Thing Independence Day Celebration regulated area from 9:30 p.m. to 9:45 p.m. on June 30, 2023. This action is being taken to provide for the safety of life on navigable waterways during this event, which will feature live fireworks. Our regulation for marine events within the Fifth Coast Guard District, § 165.506, specifies the location of the regulated area for the Shore Thing Independence Day Celebration, which encompasses portions of the Chesapeake Bay located near Ocean View Fishing Pier. During the enforcement period, neither persons nor vessels may enter, remain in, or transit through the safety zone unless specifically authorized by the Captain of the Port Virginia.

In addition to this notification of enforcement in the Federal Register, the Coast Guard plans to provide notification of this enforcement period via the Local Notice to Mariners and marine information broadcasts.

Dated: March 16, 2023.
Jennifer A. Stockwell,
Captain, U.S. Coast Guard, Captain of the Port Virginia.

[FR Doc. 2023-07749 Filed 4-12-23; 8:45 am]

BILLING CODE 9110-04-P